FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 4, 2008.

A. Federal Reserve Bank of Kansas City (Todd Offenbacker, Assistant Vice President) 1 Memorial Drive, Kansas City, Missouri 64198-0001:

1. Scott K. Martinsen, Overland Park, Kansas, and Dean A. Lanier, Leavenworth, Kansas, as co-trustees for the CCB Financial Corporation Voting Trust and the Thompson Family Trusts and as members of the Thompson Family Group, to acquire control of CCB Financial Corporation, Kansas City, Missouri, and thereby indirectly acquire control of Country Club Bank, National Association, Shawnee Mission, Kansas, and MidAmerican Bank and Trust Company, National Association, Leavenworth, Kansas.

2. Scott K. Martinsen, Overland Park, Kansas, and Dean A. Lanier, Leavenworth, Kansas, as co-trustees for the Thompson Family Trusts and as members of the Thompson Family Group, to acquire control of MidAmerican Bancshares, Inc., Kansas City, Missouri, and thereby indirectly acquire control of Allen Bank and Trust Company, Harrisonville, Missouri.

3. Platte County Bancshares Voting Trust and by Scott K. Martinsen, Overland Park, Kansas, and Dean A. Lanier, Leavenworth, Kansas, as co-trustees for the Platte County Bancshares Voting Trust and as members of the Thompson family group, to acquire control of Platte County Bancshares, Inc., and thereby indirectly acquire control of Platte Valley Bank of Missouri, both in Platte City, Missouri.

Board of Governors of the Federal Reserve System, May 15, 2008.
Robert deV. Frierson,
Deputy Secretary of the Board.

[FR Doc. E8-11234 Filed 5-19-08; 8:45 am]

BILLING CODE 6210-01-S